DEPARTMENT OF AGRICULTURE

Agricultural Marketing Service

7 CFR Part 60

[No. LS-03-04]

RIN 0581-AC26

Mandatory Country of Origin Labeling of Fish and Shellfish

AGENCY: Agricultural Marketing Service, USDA.

ACTION: Interim final rule; extension of comment period.

SUMMARY: On October 5, 2004, the Agricultural Marketing Service (AMS) published an interim final rule (69 FR 59708) for the mandatory country of origin labeling (COOL) program for fish and shellfish as mandated by the Farm Security and Rural Investment Act of 2002 (Farm Bill) and the 2002 Supplemental Appropriations Act (Appropriations Act), which amended the Agricultural Marketing Act of 1946 (Act) to direct the Secretary of Agriculture to promulgate regulations by September 30, 2004, requiring retailers to notify their customers of the country of origin of covered commodities. The FY 2004 Consolidated Appropriations Act (Public Law 108-199) delayed the applicability of mandatory COOL for all covered commodities except wild and farm-raised fish and shellfish until September 30, 2006. AMS is extending the comment period to February 2, 2005, at the request of industry trade associations to provide interested parties with additional time to file comments.

DATES: Comments must be submitted on or before February 2, 2005, to be assured of consideration.

ADDRESSES: Send written comments to: Country of Origin Labeling Program, Room 2092-S; Agricultural Marketing Service (AMS), USDA; STOP 0249; 1400 Independence Avenue, SW., Washington, DC 20250-0249, or by facsimile to (202) 720-3499, or by e-mail to cool@usda.gov. Comments received will be posted to the AMS Web site at: http://www.ams.usda.gov/cool/. Comments sent to the above location that specifically pertain to the information collection and recordkeeping requirements should also be sent to the Desk Officer for Agriculture, Office of Information and Regulatory Affairs, Office of Management and Budget (OMB), New Executive Office Building, 725 17th Street, NW., Room 725, Washington, DC 20503.

FOR FURTHER INFORMATION CONTACT: William Sessions, Associate Deputy Administrator, Livestock and Seed Program, AMS, USDA, by telephone on (202) 720-5707, or via e-mail to: william.sessions@usda.gov.

SUPPLEMENTARY INFORMATION: The Farm Bill and the Appropriations Act amended the Act to direct the Secretary of Agriculture to promulgate regulations by September 30, 2004, requiring retailers to notify their customers of the country of origin of covered commodities. The FY 2004 Consolidated Appropriations Act (Public Law 108-199) delayed the applicability of mandatory COOL for all covered commodities except wild and farm-raised fish and shellfish until September 30, 2006.

On October 5, 2004, AMS published an interim final rule (69 FR 59708) for the mandatory country of origin labeling program for fish and shellfish. The comment period was originally scheduled to end on January 3, 2005. However, two industry trade organizations have requested additional time for retailers to examine their systems in light of the requirements of the interim final rule in order to provide more meaningful comments. Further, the Food and Drug Administration (FDA) recently published the final rule to implement the Bioterrorism Act's recordkeeping requirements and more time is needed for the industry to compare the FDA regulation recordkeeping requirements with the recordkeeping requirements under the COOL interim final rule. Therefore, AMS has determined that there is sufficient justification for extending the comment period 30 days until February 2, 2005.

Authority: 7 U.S.C. 1621 et seq.

Dated: December 22, 2004.
A.J. Yates,
Administrator, Agricultural Marketing Service.

[FR Doc. 04-28349 Filed 12-27-04; 8:45 am]

BILLING CODE 3410-02-M